DEPARTMENT OF EDUCATION

The Fund for the Improvement of Postsecondary Education (FIPSE) National Board

AGENCY: Department of Education.

ACTION: Notice of an open meeting.

SUMMARY: This notice sets forth the schedule and proposed agenda of an upcoming open meeting of the National Board (Board) of the Fund for the Improvement of Postsecondary Education. The notice also describes the functions of the Board. Notice of this meeting is required by Section 10(a)(2) of the Federal Advisory Committee Act and is intended to notify the public of their opportunity to attend. This notice is published less than 15 days prior to the date of the meeting due to unexpected delays in finalizing arrangements for the meeting.

DATES: Monday, December 13, 2010.

Time: 9 a.m.-3:30 p.m. Eastern Standard Time.

ADDRESSES: Capital Hilton, Pan American Room, 1001 16th Street, NW., Washington, DC 20036, Telephone: (202) 393-1000.

FOR FURTHER INFORMATION CONTACT: Erin M. McDermott, U.S. Department of Education, 1990 K Street, NW., Washington, DC 20006-8544; telephone: (202) 502-7607; email: erin.mcdermott@ed.gov.

SUPPLEMENTARY INFORMATION: The National Board of the Fund for the Improvement of Postsecondary Education is established in Title VII, Part B, section 742 of the Higher Education Act of 1965, as amended (20 U.S.C. 1138a). The Board is authorized to advise the Director of the Fund and the Assistant Secretary for Postsecondary Education on (1) priorities for the improvement of postsecondary education, including recommendations for the improvement of postsecondary education and for the evaluation, dissemination, and adaptation of demonstrated improvements in postsecondary educational practice; and (2) the operation of the Fund, including advice on planning documents, guidelines, and procedures for grant competitions prepared by the Fund.

On Monday, December 13, 2010, from 9 a.m. to 3:30 p.m., Eastern Standard Time, the Board will meet in open session. The proposed agenda for the meeting will include discussion of the Fund's programs and special initiatives. Presentations will be made on behalf of projects administered by the Fund.

The meeting is accessible to individuals with disabilities. Individuals who use a telecommunications device for the deaf (TDD) may call the Federal Information Relay Service (FRS) at 1-800-877-8339, Monday through Friday between the hours of 8 a.m. and 8 p.m., Eastern Standard Time.

Individuals who will need accommodations for a disability in order to attend the meeting (e.g., interpreting services, assistance listening devices, or materials in alternative format) should notify Erin McDermott at (202) 502-7607, no later than December 8, 2010. We will attempt to meet requests for accommodations after this date but cannot guarantee their availability. The meeting site is accessible to individuals with disabilities.

Members of the public are encouraged to submit written comments by submitting comments to the attention of Erin M. McDermott, 1990 K Street, NW., Room 6142, Washington, DC 20006-8544 or by e-mail at erin.mcdermott@ed.gov.

Records are kept of all Board proceedings and are available for public inspection at the office of the Fund for the Improvement of Postsecondary Education, 6th Floor, 1990 K Street NW., Washington, DC 20006-8544 from the hours of 8 a.m. to 4:30 p.m., Eastern Standard Time. (EST) from Monday through Friday.

Electronic Access to This Document: You may view this document, as well as all other documents of this Department published in the Federal Register, in text or Adobe Portable Format (PDF), on the Internet at the following site: http://www.ed.gov/fedregister/index.html. To use PDF, you must have Adobe Acrobat Reader, which is available free at this site. If you have questions about using PDF, call the U.S. Government Printing Office (GPO), toll-free at 1-866-512-1800; or, in the Washington, DC area at (202) 512-0000.

Eduardo M. Ochoa,
Assistant Secretary for Postsecondary Education.

[FR Doc. 2010-30204 Filed 11-30-10; 8:45 am]

BILLING CODE 4000-01-P